FEDERAL RETIREMENT THRIFT INVESTMENT BOARD

Employee Thrift Advisory Council; Sunshine Act Meeting Notice

TIME AND DATE: 9 a.m. (Eastern Time) April 18, 2011.

PLACE: 2nd Floor Training Room, 1250 H Street, NW., Washington, DC 20005.

STATUS: Parts will be open to the public and parts closed to the public.

Matters To Be Considered

Parts Open to the Public

1. Approval of the minutes of the March 28, 2011 Board member meeting.

2. Approval of the minutes of the October 19, 2009 ETAC meeting.

3. Nomination(s) of ETAC Chairman and election of Vice Chairman.

4. Thrift Savings Plan activity report by the Executive Director.

a. Monthly Participant Activity Report.

b. Monthly Investment Policy Report.

c. Legislative Report.

5. Vendor Financial Review.

6. Audit Report Discussion.

7. Annual Financial Audit Report.

Parts Closed to the Public

8. Confidential Financial Information.

CONTACT PERSON FOR MORE INFORMATION: Thomas J. Trabucco, Director, Office of External Affairs, (202) 942-1640.

Dated: April 8, 2011.
Megan G. Grumbine,
Acting Secretary, Federal Retirement Thrift Investment Board.

[FR Doc. 2011-8989 Filed 4-8-11; 4:15 pm]

BILLING CODE 6760-01-P